DEPARTMENT OF TRANSPORTATION

National Highway Traffic Safety Administration

49 CFR Part 571

[Docket No. NHTSA 2002-12411]

Federal Motor Vehicle Safety Standards

AGENCY: National Highway Traffic Safety Administration (NHTSA), DOT.

ACTION: Denial of petition for rulemaking.

SUMMARY: This document denies a petition for rulemaking submitted by Mr. Paul Wagner of Bornemann Products to amend Federal Motor Vehicle Safety Standard (FMVSS) No. 207, “Seating systems.”

FOR FURTHER INFORMATION CONTACT: For non-legal issues: Louis Molino, Office of Crashworthiness Standards, NVS-112, National Highway Traffic Safety Administration, 400 Seventh Street, SW., Washington, DC 20590. Telephone (202) 366-1833. Fax: (202) 366-4329. For legal issues: Eric Stas, Office of Chief Counsel, NCC-112, National Highway Traffic Safety Administration, 400 Seventh Street, SW., Washington, DC 20590. Telephone: (202) 366-2992. Fax: (202) 366-3820.

SUPPLEMENTARY INFORMATION:

Table of Contents

I. The Petition

II. Additional Data from Petitioner

III. Discussion

A. Summary of Relevant Regulatory Issues

B. Analysis of the Petitioner's Argument

IV. Conclusion

I. The Petition

On October 28, 1997, the agency received a petition ¹ from Paul N. Wagner, President, Bornemann Products Incorporated (Bornemann) requesting, “that the National Highway Traffic Safety Administration initiate rulemaking on the necessary test procedures for a seating system that incorporates all safety belt anchorages on the seating system, so as to specifically define the testing processes required accordingly. If denied, it is requested that the National Highway Traffic Safety Administration reaffirm that the current test standards for seating systems hold as written.”

¹ Docket Management System NHTSA-2002-12411.

In the petition, Bornemann referenced an August 3, 1994 amendment to Federal Motor Vehicle Safety Standard (FMVSS) No. 208, “Occupant crash protection,” (59 FR 39472), which had the goal of providing adjustability of Type 2 seat belts to improve the fit and increase the comfort of the belt for a variety of different sized occupants as means of increasing belt use. Section S7.1.2.2(a) of FMVSS No. 208 states that the adjustability requirement does not apply to a seat “which is adjustable fore and aft while the vehicle is in motion and whose seat frame above the fore-and-aft adjuster is part of each of the assembly's seat belt anchorages.” This effectively exempts seats that have the torso belt anchored to the seat belt (integrated seats). The petitioner drew the conclusion that, therefore, NHTSA believes that integrated seats “would be an appropriate way to promote further seat belt use.”

Bornemann pursued the manufacture of integrated seats. The petition states that “[i]n the development process, it was noticed that different recliner mechanisms, or reclining devices, used in certain integrated seating systems tested could suffer a change in detent, or reclined position, due to the design of the recliner adjustment latch, or ‘teeth'; these teeth in the reclining device, which provide the back strength to an integrated system, when tested with the prescribed loads in #571.210, would actually shear during the test loading, and deform dramatically.” Correspondence between Bornemann and NHTSA and a series of letters of interpretation from NHTSA from 1994 to 1997 ² established:

² Docket Management System NHTSA-2002-12411.

• Compliance testing for FMVSS No. 207, “Seating systems,” requires the attachment of a reinforcing strut between the seat back and seat base to facilitate inertial load application through the seat's center of gravity. The seat belt loads specified in FMVSS No. 210, “Seat belt assembly anchorages,” are applied simultaneously with the seat inertial loading, including the load applied to the torso belt anchored to the seat back.

• The seat must stay in the pre-load position of adjustment during the test.

• FMVSS No. 210 may be applied independently of FMVSS No. 207. No reinforcing strut is applied when testing to FMVSS No. 210. However, under FMVSS No. 210, the seat recliner may fail without jeopardizing compliance.

Bornemann believes that when FMVSS No. 207 is applied to integrated seats and the belt anchorages are tested under S4.2(c) of FMVSS No. 207, “the struts attached to the seat actually may become a strengthening apparatus for the seat back itself for this test.” This in turn fails to test the requirement that the seat stay in the pre-load position of adjustment. Bornemann goes on to state that “the issue to be determined by the Agency would be to ascertain whether or not this adjustment issue should be applied to the recliner mechanism in the specific circumstance.”

II. Additional Data From Petitioner

On July 15, 1998, the agency sent a letter to Mr. Wagner, asking for more supporting information. In response to the agency's request, Bornemann conducted an integrated seat test program. Tests were performed on three identical seat designs. The seat recliners tested were modified by Bornemann specifically for these tests and did not represent any existing design by any manufacturer. The tests were as follows: A FMVSS No. 210 test (no struts), a FMVSS Nos. 207/210 combined test (with struts), and a 56 km/h (35 mph) velocity change sled test with a 50th percentile male dummy occupant. In letters dated May 27, 1999, and June 8, 1999, Mr. Wagner provided the results of these three tests.³

³ Docket Management System NHTSA-2002-12411.

In the first test (called the 210 test), the seat was subjected to the FMVSS No. 210 belt anchorage load of 1,361 kg (3,000 pounds) on the shoulder belt and 1,361 kg (3,000 pounds) on the lap belt. However, the recliner mechanism reportedly failed, shearing the recliner gear teeth and changing the detent during the test. The seat back moved forward to, approximately, a 45 degree forward angle. This would not constitute a failure in FMVSS No. 210 since the seat need only “withstand” the applied loads and the belt anchorages did not separate from the seat. Next, a new seat was subjected to a FMVSS Nos. 207/210 combined test (called the 207 test), with the seat back support struts. In this test, the seat withstood the loads with no change in adjusted position or reported damage. The seat and the recliner successfully held the load, with the seat back and seat base rotating as a unit and the seat back moving to an approximately vertical position. Finally, a third test was conducted with a 50th percentile male dummy belted into a new seat. The sled test simulated a frontal crash with a 56 km/h (35 mph) change in velocity and a 29 g peak acceleration. The results of this test reportedly mimicked the first FMVSS No. 210 test, that is, the seat recliner/lock failed causing the seat back to collapse forward.

III. Discussion

A. Summary of Relevant Regulatory Issues

• FMVSS No. 207 requires the attachment of a reinforcing strut between the seat back and seat base to facilitate inertial load application through the seat's center of gravity. Seat belt loading specified in FMVSS No. 210 is applied simultaneously with the seat inertial loading, including the load applied to the torso belt anchored to the seat back.

• The seat must stay in the pre-load position of adjustment during the test, yet the strut may prevent a failure that may have occurred if the strut were not present.

• The loads of FMVSS No. 210 may be applied independently of the loads in FMVSS No. 207. No reinforcing strut is applied when testing to FMVSS No. 210. However, under FMVSS No. 210, the seat recliner may fail without jeopardizing compliance.

• FMVSS No. 208 dynamically tests front outboard seats and restraint systems in vehicles with a Gross Vehicle Weight Rating (GVWR) of 3,856 kg (8,500 lbs) or less.

B. Analysis of the Petitioner's Position

In two interpretation letters to Bornemann, the agency noted that in accordance with S4.2 of FMVSS No. 207, a seat must remain in its adjusted position during the load application, and that the seat recliner mechanism may not have its adjustment teeth shear during the seat back strength tests.⁴,⁵ Further, Bornemann correctly stated in its October 28, 1997 petition that S4.2(c) of FMVSS No. 207 requires that when seat belt assemblies are attached to the seat, the seat belt anchorage loading specified in S4.2 of FMVSS No. 210 is applied in conjunction with the FMVSS No. 207 loading. However, S5.1.1(b) of FMVSS No. 207 permits the seat back to be braced by securing struts on each side of the seat between the seat back and seat base. This is done to facilitate load application through the seat's center of gravity. For the case of an integrated seat, the struts will alter the load path of the pull force applied to the upper torso restraint.

⁴ Letter of Interpretation from NHTSA to Paul N. Wagner of Bornemann Products, Inc., December 23, 1994. Viewable on the Internet at www.nhtsa.dot.gov/cars/rules/interps/files/10392.html. Docket Management System NHTSA-2002-12411.

⁵ Letter of Interpretation from NHTSA to Paul N. Wagner of Bornemann Products, Inc., March 21, 1995. Viewable on the Internet at www.nhtsa.dot.gov/cars/rules/interps/files/10650.html. Docket Management System NHTSA-2002-12411.

In a frontal impact, a belted occupant's body will be restrained by the seat belts. In turn, these belts will load the seat belt anchors. An upper torso anchor on a seat back would tend to apply a rotation force or torque at the connection of the seat back to the seat base. In most seat designs, the recliner mechanism or some other type of seat back locking mechanism would resist this torque. The petitioner points out that in the FMVSS No. 207 test procedure, the struts may strengthen the seat back. Thus, the petitioner indicated that there is an inherent conflict between the requirement that the seat, including the seat back, remain in its adjusted position during the test, and the requirement that the seat back is braced to the seat base prior to testing. This leaves open the possibility that some seat back restraining devices or recliner mechanisms might comply with FMVSS No. 207 as currently written, but would fail if tested in a non-braced configuration. Further, the petitioner provided test data from a non-production seat that complied with the FMVSS Nos. 207/210 combined loading when braced, but in a sled test simulating a 56 km/h frontal impact the recliner/lock of a non-braced seat failed, causing the seat back to collapse forward.

The petition correctly states that a seat could also be subject to FMVSS No. 210 apart from FMVSS No. 207. FMVSS No. 210 does not require the attachment of a strut to the seat. However, failure of the recline/lock mechanism would not result in noncompliance with FMVSS No. 210.

Based on our analysis of the information submitted by Bornemann, we believe that the issue may merit further investigation. At its core, it is a question of whether integrated seats are adequately and/or appropriately tested by the current vehicle safety standards. Integrated seats may be installed in the front or rear rows of vehicles. In addition to having to comply with FMVSS Nos. 207 and 210, front outboard seats in light passenger vehicles are dynamically tested in order to establish that a vehicle meets the frontal barrier crash test requirements found in S5.1 of FMVSS No. 208. FMVSS No. 208 utilizes instrumented test dummies in frontal barrier crash tests to assess occupant protection. So we believe that there is sufficient assurance that front outboard integrated seats will perform adequately. However, seats located in the rear seating positions of vehicles are not subject to performance requirements during the frontal barrier crash tests in FMVSS No. 208.

NHTSA has in the past supported the development and implementation of integrated seats.⁶ These seats have the potential of providing better belt fit to their occupants because the torso belt moves as the occupant moves the seat fore and aft. In rear impacts, they may assist in preventing large relative motion between the occupant and the seat back.

⁶ Advanced Integrated Safety Seat, NHTSA Research and Development Contract DTNH22-97-C-07003.

IV. Conclusion

There are insufficient data available now to assess the feasibility of an improved test for integrated rear seats, as requested in this petition. A new research effort would be needed to generate this data. Consequently, we conclude that there is no potential agency action that can result in initiation of the rulemaking process in the near future. Since there is no possibility of rulemaking action in the near future, the petition is denied.

Authority: 49 U.S.C. 30162; delegations of authority at 49 CFR 1.50 and 49 CFR 501.8.

Issued on: July 17, 2004.
Stephen R. Kratzke,
Associate Administrator for Rulemaking.

[FR Doc. 04-16655 Filed 7-21-04; 8:45 am]

BILLING CODE 4910-59-P